DEPARTMENT OF THE TREASURY

Submission for OMB Review; Comment Request

September 6, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before October 12, 2006 to be assured of consideration.

Internal Revenue Service (IRS)

OMB Number: 1545-1606.

Type of Review: Extension.

Title: Qualified Zone Academy Bond Credit.

Form: 8860.

Description: A qualified zone academy bond is a taxable bond issued after 1997 by a state or local government, with the proceeds used to improve certain eligible public schools. In lieu of receiving interest payments from the issuer, an eligible holder of the bond is generally allowed an annual income tax credit. Eligible holders of qualified zone academy bonds use Form 8860 to figure and claim this credit.

Respondents: Businesses or other for-profit institutions.

Estimated Total Burden Hours: 204 hours.

OMB Number: 1545-1593.

Type of Review: Extension.

Title: U.S. Income Tax Return for Qualified Funeral Trusts.

Form: 1041-QFT.

Description: IRC section 685 allows the trustee of a qualified funeral trust to elect to report and pay the tax for the trust. Data is used to determine that the trustee filed the proper return and paid the correct tax.

Respondents: Business and other for-profit institutions, and not-for-profit institutions.

Estimated Total Burden Hours: 270,150 hours.

OMB Number: 1545-0098.

Type of Review: Extension.

Title: Application for Tentative Refund.

Form: 1045.

Description: Form 1045 is used by individuals, estates, and trusts to apply for a quick refund of taxes due to carryback of a new operating loss, unused general business credit, or claim of right adjustment under section 1341(b). The information obtained is used to determine the validity of the application.

Respondents: Individuals or Households.

Estimated Total Burden Hours: 614,888 hours.

OMB Number: 1545-1016.

Type of Review: Revision.

Title: Empowerment Zone Employment Credit.

Form: 8613.

Description: Form 8613 is used by regulated investment companies to compute and pay the excise tax on undistributed income imposed under section 4982. IRS uses the information to verify that the correct amount of tax has been reported.

Respondents: Businesses or other for-profit institutions.

Estimated Total Burden Hours: 365,904 hours.

OMB Number: 1545-1842.

Type of Review: Extension.

Title: Health Coverage Tax Credit Registration Form.

Form: 13441.

Description: Form 13441, Health Coverage Tax Credit Registration Form, will be directly mailed to all individuals who are potentially eligible for the HCTC. Potentially eligible individuals will use this form to determine if they are eligible for the Health Coverage Tax Credit and to register for the HCTC program. Participation in this program is voluntary. This form will be submitted by the individual to the HCTC program office in a postage-paid, return envelope. We will accept faxed forms, if necessary.

Respondents: Individuals or Households.

Estimated Total Burden Hours: 900 hours.

OMB Number: 1545-0192.

Type of Review: Extension.

Title: Tax on Accumulation Distribution of Trusts.

Form: 4970.

Description: Form 4970 is used by a beneficiary of a domestic or foreign trust to compute the tax adjustment attributable to an accumulation distribution. The form is used to verify whether the correct tax has been paid on the accumulation distribution.

Respondents: Individuals or Households.

Estimated Total Burden Hours: 32,200 hours.

OMB Number: 1545-1442.

Type of Review: Extension.

Title: PS-79-93 (Final) Grantor Trust Reporting Requirements.

Description: The information required by these regulations is used by the Internal Revenue Service to ensure that items of income, deduction, and credit of a trust as owned by the grantor or another person are properly reported.

Respondents: Businesses or other for-profit institutions.

Estimated Total Burden Hours: 920,000 hours.

OMB Number: 1545-0219.

Type of Review: Extension.

Title: Work Opportunity Credit.

Form: 5884.

Description: IRC section 38(b)(2) allows a credit against income tax to employers hiring individuals from certian targeted groups such as welfare recipients, etc. The employer uses Form 5884 to figure the credit. IRS uses the information on the form to verify that the correct amount of credit was claimed.

Respondents: Businesses and other for-profit institutions.

Estimated Total Burden Hours: 52,547 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-15047 Filed 9-11-06; 8:45 am]

BILLING CODE 4830-01-P